ENVIRONMENTAL PROTECTION AGENCY

[EPA-HQ-SFUND-2007-0559, FRL-8498-3]

Agency Information Collection Activities; Submission to OMB for Review and Approval; Comment Request; Implementation of the Oil Pollution Act Facility Response Plan Requirements (Renewal); EPA ICR No. 1630.09, OMB Control No. 2050-0135

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 21, 2007.

ADDRESSES: Submit your comments, referencing Docket ID No. EPA-HQ-SFUND-2007-0559, to (1) EPA online using http://www.regulations.gov (our preferred method) or by mail to: EPA Docket Center (EPA/DC), Superfund Docket (Mailcode 2822T), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lori Lee, Office of Solid Waste and Emergency Response, Office of Emergency Management, (Mail Code: 5104A), Environmental Protection Agency, 1200 Pennsylvania Ave., NW., Washington, DC 20460; telephone number: 202-564-8006; fax number: 202-564-2501; e-mail address: lee.lori@epa.gov.

SUPPLEMENTARY INFORMATION: EPA has submitted the following ICR to OMB for review and approval according to the procedures prescribed in 5 CFR 1320.12. On July 18, 2007 (72 FR 39406), EPA sought comments on this ICR pursuant to 5 CFR 1320.8(d). EPA received no comments. Any additional comments on this ICR should be submitted to EPA and OMB within 30 days of this notice.

EPA has established a public docket for this ICR under Docket ID No. EPA-HQ-SFUND-2007-0559, which is available for online viewing at www.regulations.gov, or in person viewing at the Superfund Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Superfund Docket is 202-566-0276.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to http://www.regulations.gov.

Title: Implementation of the Oil Pollution Act Facility Response Plan Requirements (Renewal).

ICR Numbers: EPA ICR No. 1630.09, OMB Control No. 2050-0135.

ICR Status: This ICR is scheduled to expire on November 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The authority for EPA's facility response plan (FRP) requirements is derived from section 311 of the Clean Water Act, as amended by the Oil Pollution Act of 1990. EPA's FRP regulation is codified at 40 CFR 112.20 and 112.21. All FRP-related reporting and recordkeeping activities are mandatory. No amendments were made to the FRP regulation since submission of the current ICR approval (November 30, 2004). While EPA recently finalized amendments to the SPCC rule (71 FR 77266 (December 26, 2006) and 72 FR 27443 (May 16, 2007)), these amendments are not expected to impact the number of facilities subject to FRP requirements, nor are they expected to substantively affect the burden of complying with FRP requirement.

Purpose of Data Collection

A facility-specific response plan will help an owner or operator identify the necessary resources to respond to an oil spill in a timely manner. If implemented effectively, the FRP will reduce the impact and severity of oil spills and may prevent spills because of the identification of risks at the facility. Although the facility owner or operator is the primary data user, EPA also uses the data in certain situations to ensure that facilities comply with the regulation and to help allocate response resources. State and local governments may also use the data to assist in local emergency preparedness planning efforts.

EPA reviews all submitted FRPs and must approve FRPs for those facilities whose discharges may cause “significant and substantial harm” to the environment. EPA approval is needed in order to ensure that facilities believed to pose the highest risk have planned for adequate resources and procedures to respond to a spill. (See 40 CFR 112.20(f)(3) for further information about the criteria for “significant and substantial harm.”)

Response Plan Certification. Under § 112.20(e), the owner or operator of a facility subject to SPCC requirements in 40 CFR part 112 but that does not meet the “substantial harm” criteria in § 112.20(f)(1) must complete and maintain at the facility the certification form contained in Appendix C to part 112.

Response Plan Preparation. Under § 112.20(a) or (b), the owner or operator of a facility that meets the “substantial harm” criteria in § 112.20(f)(1) must prepare and submit to the EPA Regional Administrator an FRP following § 112.20(h). Such a facility may be a newly constructed facility or may be an existing facility that meets paragraph (f)(1) as a result of a planned change (paragraph (a)(2)(iii)) or an unplanned change (paragraph (a)(2)(iv)) in facility characteristics. Under paragraph (c), the owner or operator may be required to amend the FRP.

Response Plan Maintenance. Under § 112.20(g), the owner or operator must periodically review the FRP to ensure consistency with the National Oil and Hazardous Substances Pollution Contingency Plan and Area Contingency Plans. Under § 112.20(d), the facility owner or operator must revise and resubmit revised portions of the FRP after material changes at the facility. FRP changes that do not result in a material change in response capabilities shall be provided to the Regional Administrator as they occur. Training and periodic drills and exercises are required to test the effectiveness of the FRP and are required under § 112.21.

Recordkeeping. Under § 112.20(e), an owner or operator who determines that the FRP requirements do not apply must certify and retain a record of this determination. An owner or operator who is subject to the requirements must keep the FRP at the facility (§ 112.20(a)), keep updates to the FRP (§ 112.20(d)(1) and (2)), and log activities such as discharge prevention meetings, response training, and drills and exercises (§ 112.20(h)(8)(iv)).

Burden Statement. The average annual reporting and recordkeeping burdens for this collection of information to a newly regulated facility for which an FRP is not required (i.e., facility where the owner or operator certifies that the facility does not meet the “substantial harm” criteria) are estimated at 0.4 hours per year. The average annual reporting and recordkeeping burdens to a newly regulated facility for which an FRP is required (i.e., first-year costs for plan development) are estimated at 99.7 hours per year. The average annual reporting and recordkeeping burdens to a facility for which the owner or operator is maintaining an FRP (i.e., subsequent year costs for annual plan maintenance) are estimated at 240.1 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are a subset of facilities that are required to have a spill prevention, control, and countermeasure (SPCC) plan under the Oil Pollution Prevention regulation (40 CFR part 112).

Estimated Number of Respondents: 22,574.

Frequency of Response: Less than once a year.

Estimated Total Annual Hour Burden: 432,627.

Estimated Total Annual Cost: $17,427,828 includes $29,483 annualized capital costs.

Changes in the Estimates: There is a decrease of 202,367 hours in the total estimated burden currently identified in the OMB Inventory of Approved ICR Burdens. This decrease reflects EPA's current inventory of facilities that have submitted and are maintaining an FRP as per 40 CFR part 112. While there have been no changes in the regulation that affected the per-facility regulatory burden, the number of facilities currently subject to FRP requirements is lower than had been estimated for the current ICR, resulting in a lower aggregate burden.

Dated: November 14, 2007.
Richard T. Westlund,
Acting Director, Collection Strategies Division.

[FR Doc. E7-22756 Filed 11-20-07; 8:45 am]

BILLING CODE 6560-50-P